SECURITIES AND EXCHANGE COMMISSION

[66 FR 19591, April 16, 2001]

Sunshine Act Meeting; Federal Register Citation of Previous Announcement

STATUS: Closed meeting.

PLACE: 450 Fifth Street, NW., Washington, DC.

DATE PREVIOUSLY ANNOUNCED: April 11, 2001.

CHANGE IN THE MEETING: Cancellation of Meeting.

The closed meeting scheduled for Wednesday, April 18, 2001 at 11:00 a.m. has been canceled.

Dated: April 18, 2001.
Jonathan G. Katz,
Secretary.

[FR Doc. 01-10091 Filed 4-19-01; 12:42 pm]

BILLING CODE 8010-01-M